DEPARTMENT OF ENERGY

Federal Energy Regulatory Commission

[Docket No. PR04-14-000]

Bridgeline Holdings, L.P.; Notice of Petition for Rate Approval

July 28, 2004.

Take notice that on July 16, 2004, Bridgeline Holdings, L.P. (Bridgeline) filed a petition for rate approval pursuant to section 284.123(b)(2) of the Commission's Regulations. Bridgeline requests the Commission to approve a maximum interruptible rate of $.2360 per MMBtu, a maximum firm usage charge of $.1422 per MMBtu, a monthly reservation charge of $2.85 per MMBtu, and a fuel retention of .84% for transportation service under section 311(a)(2) of the Natural Gas Policy Act.

Any person desiring to participate in this rate filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Intervention and Protest Date: 5 p.m. Eastern Time on August 12, 2004.

Linda Mitry,
Acting Secretary.

[FR Doc. E4-1708 Filed 8-2-04; 8:45 am]

BILLING CODE 6717-01-P